DEPARTMENT OF COMMERCE

International Trade Administration

[A-570-952]

Narrow Woven Ribbons With Woven Selvedge From the People's Republic of China: Final Results of Antidumping Duty Administrative Review; 2010-2011

AGENCY: Import Administration, International Trade Administration, Department of Commerce.

SUMMARY: The Department of Commerce (the “Department”) published its Preliminary Results of administrative review of the antidumping duty order on narrow woven ribbons with woven selvedge (“narrow woven ribbons”) on August 8, 2012.¹ The period of review (“POR”) is September 1, 2010, through August 31, 2011. The Department invited interested parties to comment on the Preliminary Results. Based on an analysis of the comments received, the Department made no changes to the margins assigned in the Preliminary Results. The final dumping margins for this review are listed in the “Final Results of Review” section below.

¹ See Narrow Woven Ribbons With Woven Selvedge From the People's Republic of China: Preliminary Results and Partial Rescission of Antidumping Duty Administrative Review, 77 FR 47363 (August 8, 2012) (“Preliminary Results”).

DATES: Effective Date: February 13, 2013.

FOR FURTHER INFORMATION CONTACT: Karine Gziryan or Robert Bolling, AD/CVD Operations, Office 4, Import Administration, International Trade Administration, U.S. Department of Commerce, 14th Street and Constitution Avenue NW., Washington, DC 20230; telephone: (202) 482-4081 or (202) 482-3434, respectively.

Background

On August 8, 2012, the Department published its Preliminary Results. On September 7, 2012, Hubscher Ribbon Corp., Ltd. (“Hubschercorp”) submitted a case brief for this administrative review.² On September 12, 2012, the Department received a rebuttal brief from Berwick Offray LLC and its wholly-owned subsidiary Lion Ribbon Company, Inc. (collectively, “Petitioner”).³ No other party submitted comments.

² See Letter from Hubschercorp to the Secretary of Commerce, “Narrow Woven Ribbons With Woven Selvedge from China, Antidumping Duty: Case Brief” (September 7, 2012).

³ See Letter from Petitioner to the Secretary of Commerce, “Rebuttal Brief on Behalf of Petitioner Berwick Offray LLC and Its Wholly-Owned Subsidiary Lion Ribbon Company, Inc.” (September 12, 2012).

Extension of Final Results Due to Government Closure During Hurricane Sandy

As explained in the memorandum from the Assistant Secretary for Import Administration, the Department has exercised its discretion to toll deadlines for the duration of the closure of the Federal Government from October 29, through October 30, 2012. Thus, all deadlines in this segment of the proceeding have been extended by two days.⁴ Therefore, the revised deadline for the final results of this review is now February 6, 2013.

⁴ See Memorandum For the Record from Paul Piquado, Assistant Secretary for Import Administration, “Tolling of Administrative Deadlines as a Result of the Government Closure During Hurricane Sandy” (October 31, 2012).

Scope of the Order

The merchandise covered by this order includes narrow woven ribbons with woven selvedge, in any length, but with a width (measured at the narrowest span of the ribbon) less than or equal to 12 centimeters, composed of, in whole or in part, man-made fibers (whether artificial or synthetic, including but not limited to nylon, polyester, rayon, polypropylene, and polyethylene teraphthalate), metal threads and/or metalized yarns, or any combination thereof.⁵

⁵ See Issues and Decision Memorandum for the Final Results of Antidumping Duty Administrative Review issued concurrently with this notice for a complete description of the Scope of the Order.

The merchandise subject to the order is classifiable under the Harmonized Tariff Schedule of the United States (“HTSUS”) statistical categories 5806.32.1020; 5806.32.1030; 5806.32.1050 and 5806.32.1060. Subject merchandise also may enter under subheadings 5806.31.00; 5806.32.20; 5806.39.20; 5806.39.30; 5808.90.00; 5810.91.00; 5810.99.90; 5903.90.10; 5903.90.25; 5907.00.60; and 5907.00.80 and under statistical categories 5806.32.1080; 5810.92.9080; 5903.90.3090; and 6307.90.9889. The HTSUS statistical categories and subheadings are provided for convenience and customs purposes; however, the written description of the merchandise covered by the order is dispositive.⁶

⁶ See Notice of Antidumping Duty Orders: Narrow Woven Ribbons With Woven Selvedge From Taiwan and the People's Republic of China: Antidumping Duty Orders, 75 FR 53632 (September 1, 2010), as amended in Narrow Woven Ribbons With Woven Selvedge From Taiwan and the People's Republic of China: Amended Antidumping Duty Orders, 75 FR 56982 (September 17, 2010) (“Orders”).

Analysis of Comments Received

All issues raised in the case and rebuttal briefs submitted by parties in this review are addressed in the Memorandum from Christian Marsh, Deputy Assistant Secretary for Antidumping and Countervailing Duty Operations, to Paul Piquado, Assistant Secretary for Import Administration, “Issues and Decision Memorandum for the Final Results of the Administrative Review of Narrow Woven Ribbons with Woven Selvedge from the People's Republic of China” (dated concurrently with this notice) (“Issues and Decision Memorandum”) and the Memorandum to the File from Karine Gziryan, Senior Financial Analyst, Office 4, NME Unit, “Antidumping Administrative Review of Narrow Woven Ribbons with Woven Selvedge from the People's Republic of China: Proprietary Memorandum regarding Corroboration of Adverse Facts Available Rate” (dated concurrently with this notice) (“Final Corroboration Memo”), which is hereby adopted by this notice. The issue that parties raised and to which the Department responded in the Issues and Decision Memorandum is attached to this notice as an appendix. The Issues and Decision Memorandum is a public document and is on file electronically via Import Administration's Antidumping and Countervailing Duty Centralized Electronic Service System (“IA ACCESS”). Access to IA ACCESS is available to registered users at http://iaaccess.trade.gov, and is available to all parties in the Central Records Unit, which is in room 7046 of the main Department of Commerce building. In addition, a complete version of the Issues and Decision Memorandum can be accessed directly on the internet at www.trade.gov/ia/. The signed Issues and Decision Memorandum and the electronic versions of the Issues and Decision Memorandum are identical in content.

Changes Since the Preliminary Results

Based on an analysis of the comment received, the Department made no changes to the margins assigned in the Preliminary Results.

Non-Market Economy Country

The PRC has been treated as a non-market economy (“NME”) in every proceeding conducted by the Department. In accordance with section 771(18)(C)(i) of the Tariff Act of 1930, as amended (the “Act”), any determination that a foreign country is an NME shall remain in effect until revoked by the administering authority. The Department has not revoked the PRC's status as an NME. Therefore, the Department continues to treat the PRC as an NME for purposes of these final results and, accordingly, applied the NME methodology.

Separate Rates

In proceedings involving NMEs, the Department maintains a rebuttable presumption that all companies within the NME are subject to government control and, therefore, should be assessed a single weighted-average dumping margin.⁷ The Department's policy is to assign all exporters of merchandise under consideration that are in an NME this single rate unless an exporter can demonstrate that it is sufficiently independent so as to be entitled to a separate rate.⁸ The Department analyzes whether each entity exporting the merchandise under consideration is sufficiently independent under a test established in Sparklers ⁹ and further developed in Silicon Carbide.¹⁰ According to this separate rate test, the Department will assign a separate rate in NME proceedings if a respondent can demonstrate the absence of both de jure and de facto government control over its export activities. If, however, the Department determines that a company is wholly foreign owned, then a separate rate analysis is not necessary to determine whether that company is independent from government control and eligible for a separate rate.

⁷ See, e.g., Polyethylene Terephthalate Film, Sheet, and Strip from the People's Republic of China: Final Determination of Sales at Less Than Fair Value, 73 FR 55039, 55040 (September 24, 2008).

⁸ See Final Determination of Sales at Less Than Fair Value: Sparklers From the People's Republic of China, 56 FR 20588, 20589 (May 6, 1991) (“Sparklers”).

⁹ Id.

¹⁰ See Notice of Final Determination of Sales at Less Than Fair Value: Silicon Carbide From the People's Republic of China, 59 FR 22585 (May 2, 1994) (“Silicon Carbide”).

In the Preliminary Results, the Department found that Weifang Dongfang Ribbon Weaving Co., Ltd. (“Weifang Dongfang”) demonstrated its eligibility for separate-rate status.¹¹ No party commented on this preliminary determination. For the final results, the Department continues to find that the evidence placed on the record of this administrative review by Weifang Dongfang demonstrate both a de jure and de facto absence of government control and, therefore, is eligible for separate-rate status.

¹¹ See Preliminary Results, 77 FR at 47366.

Calculation of Separate Rate

In accordance with section 777A(c)(2)(B) of the Act, the Department employed a limited examination methodology, as it did not have the resources to examine all companies for which a review request was made. The Department selected two respondents for review, Precious Planet Ribbons & Bows Co., Ltd. (“Precious Planet”) and Hubschercorp. On January 24, 2012, Precious Planet timely withdrew its request for an administrative review of its sales.¹² On May 29, 2012, Hubschercorp indicated that it would no longer participate in the administrative review and failed to further answer the Department's questionnaires.¹³ For those companies not selected for review, only Weifang Dongfang submitted timely information as requested by the Department and remains subject to the review as a cooperative separate rate respondent.

¹² See Letter from Precious Planet to the Secretary of Commerce, “Narrow Woven Ribbons With Woven Selvedge from China, Antidumping Duty: Revised Withdrawal of Request for Administrative Review” (January 24, 2012).

¹³ See Letter from Hubschercorp's to the Secretary of Commerce, “Narrow Woven Ribbons With Woven Selvedge from China, Antidumping Duty: Withdrawal from Administrative Review” (May 29, 2012).

We note that the Act and the Department's regulations do not directly address the establishment of a rate to be applied to individual companies not selected for examination where the Department limited its examination in an administrative review pursuant to section 777A(c)(2) of the Act. The Department's practice in cases involving limited selection based on exporters accounting for the largest volumes of trade has been to look to section 735(c)(5) of the Act, which provides instructions for calculating the all-others rate in an investigation, for guidance. Section 735(c)(5)(A) of the Act instructs that in most investigations we are not to calculate an all-others rate using any zero or de minimis margins or any margins based entirely on facts available. Section 735(c)(5)(B) of the Act also provides that, where all margins are zero rates, de minimis rates, or rates based entirely on facts available, we may use “any reasonable method” for assigning the rate to non-selected respondents. Furthermore, Congress, in the Statement of Administrative Action (“SAA”), stated that when “the dumping margins for all of the exporters and producers that are individually investigated are determined entirely on the basis of the facts available or are zero or de minimis * * * (t)he expected method in such cases will be to weight-average the zero and de minimis margins and margins determined pursuant to the facts available.” ¹⁴ However, Congress also stated that “if this method is not feasible, or if it results in an average that would not be reasonably reflective of potential dumping margins for non-investigated exporters or producers, (the Department) may use other reasonable methods.” ¹⁵

¹⁴ See SAA accompanying the Uruguay Round Agreements Act, H.R. Doc. No. 103-316 at 873 (1994), reprinted in 1994 U.S.C.C.A.N. 4040, 4200.

¹⁵ Id.

In this instance, because one of the two selected respondents, Precious Planet, timely withdrew its request for an administrative review of its sales, the only rate determined in this review for a selected respondent, Hubschercorp, is based entirely on facts available.

We note that the Department has used other reasonable means to assign separate-rate margins to non-reviewed companies in instances in which the use of an “average” of calculated zero rates, de minimis rates, or rates based entirely on facts available was not possible.¹⁶ In Vietnam Shrimp AR3 Final, the Department assigned to those separate rate companies with no history of an individually calculated rate the margin determined for cooperative separate rate respondents from the underlying investigation.¹⁷ However, for those separate rate respondents that had received a calculated rate in a prior segment, concurrent with or more recent than the calculated rate in the underlying investigation, the Department assigned that calculated rate as the company's separate rate in the review at hand.¹⁸

¹⁶ See Certain Frozen Warmwater Shrimp From the Socialist Republic of Vietnam: Final Results and Final Partial Rescission of Antidumping Duty Administrative Review, 74 FR 47191, 47194 (September 15, 2009) (“Vietnam Shrimp AR3 Final”).

¹⁷ See Administrative Review of Certain Frozen Warmwater Shrimp From the People's Republic of China: Final Results and Partial Rescission of Antidumping Duty Administrative Review, 75 FR 49460, 49463 (August 13, 2010).

¹⁸ Id.

In this review, we preliminarily found that a reasonable method was to assign to the separate rate company Weifang Dongfang, with no history of an individually calculated rate, the margin calculated for cooperative separate rate respondents in the underlying investigation, 123.83 percent.¹⁹ No parties commented on this separate rate and we continue to assign this separate rate for the final results.

¹⁹ See Narrow Woven Ribbons With Woven Selvedge From the People's Republic of China: Final Determination of Sales at Less Than Fair Value, 75 FR 41808, 41812 (July 19, 2010) (“Final LTFV Determination”).

The PRC-Wide Entity

In addition to the separate-rate certification discussed above, there were two companies, Stribbons (Guangzhou) Ltd. (“Stribbons Guangzhou”), Stribbons (Nanyang) MNC, Ltd. (“Stribbons MNC”), (collectively “MNC Stribbons” ²⁰) for which we initiated a review in this proceeding and which previously had a separate rate. However, in accordance with the Department's established NME methodology, a party's separate rate status must be established in each segment of the proceeding in which the party is involved.²¹ Because these companies did not file a timely (i.e., within 60 calendar days after publication of Initiation Notice ²²) separate rate certification to demonstrate eligibility for a separate rate in this administrative review, or certify that they had no shipments,²³ we preliminarily determined that these companies were part of the PRC-wide entity. In addition, because Precious Planet withdrew timely the only request for review and did not have a prior separate rate status, it is also part of the PRC-wide entity. No parties commented on these determinations and we continue to find these companies part of the PRC-wide entity for these final results.

²⁰ MNC Stribbons filed their Separate Rate Certification on behalf of two companies under collective name MNC Stribbons, however, the Department initiated our administrative review on two companies Stribbons Guangzhou and Stribbons MNC, and we will continue to treat these two companies as two separate entities.

²¹ See Sigma Corp. v.United States, 117 F.3d 1401, 1405-06 (Fed. Cir. 1997) (affirming the Department's presumption of State control over exporters in NME cases).

²² See Initiation of Antidumping and Countervailing Duty Administrative Reviews and Requests for Revocation in Part, 76 FR 67133, 67134 (October 31, 2011).

²³ See id.

We note that MNC Stribbons filed a request to be selected as a voluntary respondent after one of the selected respondents withdrew from the proceeding. However, MNC Stribbons made this request after it had missed the 60-day deadline to demonstrate its eligibility for a separate rate (i.e., failed to provide a timely separate rate certification) and the Department returned its submissions in accordance with 19 CFR 351.302(d).²⁴

²⁴ See Letter from Robert Bolling, Program Manager, AD/CVD Operations, Office 4 to Mr. James Cannon, Williams Mullen, representing Stribbons (Guangzhou) Ltd. and Stribbons (Nanyang) MNC Ltd., dated January 13, 2012 (“Rejection Letter”).

Use of Facts Otherwise Available and AFA

Section 776(a) of the Act provides that the Department shall apply “facts otherwise available” if: (1) necessary information is not on the record; or (2) an interested party or any other person (A) withholds information that has been requested, (B) fails to provide information within the deadlines established, or in the form and manner requested by the Department, subject to subsections (c)(1) and (e) of section 782 of the Act, (C) significantly impedes a proceeding, or (D) provides information that cannot be verified as provided by section 782(i) of the Act.

Hubschercorp did not respond to the Department's Section D questionnaire or Sections A and C supplemental questionnaires in this administrative review, and informed the Department that it would no longer participate in this review.²⁵ As a result, Hubschercorp failed to provide requested information that is necessary for the Department to calculate an antidumping duty rate for Hubschercorp in this administrative review. This information includes complete product characteristics related to control numbers of products sold in the United States, FOPs, consumption rates of FOPs, and production processes data. Without this information, it is not possible for the Department to determine or calculate an antidumping margin.

²⁵ See Hubschercorp's May 29, 2012, submission.

Hubschercorp withheld requested information, significantly impeded this proceeding and did not provide the Department with the information necessary to calculate an antidumping duty margin. Therefore, pursuant to section 776(a)(1) and (2)(A) and (C) of the Act, the Department finds that the use of total facts available is appropriate.

Section 776(b) of the Act further provides that the Department may use an adverse inference in applying the facts otherwise available when a party has failed to cooperate by not acting to the best of its ability to comply with a request for information.²⁶ Adverse inferences are appropriate “to ensure that the party does not obtain a more favorable result by failing to cooperate than if it had cooperated fully.” ²⁷ Furthermore, “affirmative evidence of bad faith on the part of a respondent is not required before the Department may make an adverse inference.” ²⁸ We find that Hubschercorp did not act to the best of its ability in this administrative review, within the meaning of section 776(b) of the Act, because it failed to respond to the Department's requests for information and failed to provide timely information. Therefore, we preliminarily determined that an adverse inference was warranted in selecting from the facts otherwise available with respect to this company.²⁹ No parties disagreed with this determination and we continue to apply facts available with an adverse inference to Hubschercorp for these final results.

²⁶ See Notice of Final Results of Antidumping Duty Administrative Review: Stainless Steel Bar from India, 70 FR 54023, 54025-26 (September 13, 2005); Notice of Final Determination of Sales at Less Than Fair Value and Final Negative Critical Circumstances: Carbon and Certain Alloy Steel Wire Rod from Brazil, 67 FR 55792, 55794-96 (August 30, 2002).

²⁷ See SAA, at 870.

²⁸ See Antidumping Duties; Countervailing Duties; Final rule, 62 FR 27296, 27340 (May 19, 1997); see also Nippon Steel Corp. v. United States, 337 F.3d 1373, 1382-83 (Fed. Cir. 2003) (“Nippon”).

²⁹ See Nippon, 337 F.3d at 1382-83.

Selection of the Adverse Facts Available (“AFA”) Rate

Section 776(b) of the Act provides that the Department may use as AFA information derived from: (1) The petition; (2) the final determination in the investigation; (3) any previous review; or (4) any other information placed on the record.

In the SAA, Congress expressly stated that the choice of AFA must “ensure that the party does not obtain a favorable result by failing to corroborate than if it had cooperated fully. In employing adverse inferences, “one factor” the Department “will consider is the extent to which a party may benefit from its own lack of cooperation.” ³⁰ The Department's practice, when selecting an AFA rate from among the possible sources of information, has been to select the highest rate on the record of the proceeding and to ensure that the margin is sufficiently adverse “as to effectuate the statutory purposes of the adverse facts available rule to induce respondents to provide the Department with complete and accurate information in a timely manner.” ³¹

³⁰ See SAA, at 870.

³¹ See, e.g., Certain Steel Concrete Reinforcing Bars from Turkey; Final Results and Rescission of Antidumping Duty Administrative Review in Part, 71 FR 65082, 65084 (November 7, 2006).

As a result, we have assigned to Hubschercorp a rate of 247.65 percent, which is the highest rate alleged in the petition, as noted in the initiation of the less-than-fair-value (“LTFV”) investigation, adjusted with the surrogate value for labor rate used in the final determination.³²

³² See Narrow Woven Ribbons with Woven Selvedge from the People's Republic of China and Taiwan: Initiation of Antidumping Duty Investigations, 74 FR 39291 (August 6, 2009) (“LTFV Initiation”) and Final LTFV Determination, 75 FR at 41812, and accompanying Issues and Decision Memorandum at Comment 1.

Corroboration of Secondary Information

Information from prior segments of the proceeding constitutes secondary information and section 776(c) of the Act provides that the Department shall, to the extent practicable, corroborate that secondary information from independent sources reasonably at its disposal. The Department's regulations provide that “corroborate” means that the Department will satisfy itself that the secondary information to be used has probative value.³³ To be considered corroborated, the Department must find the secondary information is both reliable and relevant.³⁴

³³ See 19 CFR 351.308(d); see also SAA, at 870.

³⁴ See, e.g., Tapered Roller Bearings and Parts Thereof, Finished and Unfinished, From Japan, and Tapered Roller Bearings, Four Inches or Less in Outside Diameter, and Components Thereof, From Japan; Preliminary Results of Antidumping Duty Administrative Reviews and Partial Termination of Administrative Reviews, 61 FR 57391, 57392 (November 6, 1996), unchanged in Tapered Roller Bearings and Parts Thereof, Finished and Unfinished, From Japan, and Tapered Roller Bearings, Four Inches or Less in Outside Diameter, and Components Thereof, From Japan; Final Results of Antidumping Duty Administrative Reviews and Termination in Part, 62 FR 11825 (March 13, 1997).

To determine whether the information is reliable, we placed information from the LTFV investigation on the record of this segment of the proceeding, and reviewed the adequacy and accuracy of the information in the petition during our pre-initiation analysis for purposes of these final results, including source documents as well as publicly available information.³⁵ Based on our examination of the information, we have determined that the margins in the petition are reliable for the purposes of this administrative review.³⁶

³⁵ See LTFV Initiation, 74 FR at 39294-39296.

³⁶ See Issues and Decision Memorandum, at Comment 1.

To determine the relevance of the petition margin, we placed the model-specific rates calculated for the mandatory respondent, Yama Ribbons and Bows Co., Ltd. (“Yama”), in the LTFV investigation on the record of this segment of the proceeding and compared the 247.65 percent rate with those model-specific rates. We find that this margin is relevant because the petition rate fell within the range of model-specific margins calculated for the mandatory respondent in the LTFV investigation, this is the first review under this order (i.e., only one segment removed from the LTFV investigation), and Hubschercorp exported merchandise during the POR that was specifically produced by Yama.³⁷

³⁷ See id.; Final Corroboration Memo; and the Memorandum to the File from Karine Gziryan, Analyst, entitled, “Placement of Proprietary Model-Specific Margins from the Less-Than-Fair-Value Investigation on the Record and Corroboration of Adverse Facts Available Rate for the Preliminary Results in the 2010-2011 Antidumping Duty Administrative Review of Narrow Woven Ribbons with Woven Selvedge from the PRC,” dated July 31, 2012 (“Preliminary Corroboration Memo”).

Further, the Department will consider information reasonably at its disposal as to whether there are circumstances that would render a margin inappropriate. Where circumstances indicate that the selected margin is not appropriate as AFA, the Department may disregard the margin and determine an appropriate margin.³⁸ Therefore, we examined whether any information on the record would discredit the selected rate as reasonable facts available. No information on the administrative record discredits the selected AFA rate.

³⁸ See, e.g., Fresh Cut Flowers from Mexico; Final Results of Antidumping Duty Administrative Review, 61 FR 6812, 6814 (February 22, 1996) (where the Department disregarded the highest calculated margin as AFA because the margin was based on a company's uncharacteristic business expense resulting in an unusually high margin).

Based on the above, for these final results, the Department finds the highest rate derived from the petition (i.e., 247.65 percent) is, therefore, corroborated to the extent practicable, pursuant to section 776(c) of the Act. Thus, we have assigned Hubschercorp this rate, as AFA, in this administrative review. For further discussion of the corroboration of this rate, see Issues and Decision Memorandum at Comment 1, Final Corroboration Memo, and the Preliminary Corroboration Memo.

Final Results of Review

The Department determined that the dumping margins for the POR are as follows:

³⁹ We note that Hubscher Ribbons Corp., Ltd. (d/b/a Hubschercorp) is a third-country reseller from Canada.

⁴⁰ For the reasons stated above, the Department has concluded that the PRC-wide Entity includes Stribbons (Guangzhou) Ltd.; Stribbons (Nanyang) MNC Ltd. and Precious Planet.

Exporter | Weighted-average margin (percentage)
Hubscher Ribbon Corp., Ltd. (d/b/a Hubschercorp) ³⁹ | 247.65
Weifang Dongfang Ribbon Weaving Co., Ltd. | 123.83
PRC-wide Entity ⁴⁰ | 247.65

Assessment

Pursuant to section 751(a)(2)(A) of the Act and 19 CFR 351.212(b), the Department will determine, and U.S. Customs and Border Protection (“CBP”) shall assess, antidumping duties on all appropriate entries of subject merchandise in accordance with the final results of this review. In this case, the Department determined that the assessment rate for the separate rate respondent Weifang Dongfang will be the separate rate of 123.83 percent from the previous period less the 0.39 percent export subsidy rate ⁴¹ which will be equal to 123.44 percent. The Department also determined that the assessment rate for Hubschercorp will be the highest petition rate of 247.65 percent less the 0.39 percent export subsidy rate ⁴² which will be equal to 247.26 percent. Additionally, the Department will instruct CBP to liquidate entries of subject merchandise exported by the PRC-wide entity at the PRC-wide rate of 247.65 percent less the 0.39 percent export subsidy rate ⁴³ which will equal 247.26 percent. Accordingly, the Department is adjusting the assessment rates of Weifang Dongfang, Hubschercorp and the PRC-wide entity for export subsidies in the same manner that the Department adjusted each company's cash deposit rate. See Cash Deposit Requirements section below. The Department intends to issue appropriate assessment instructions directly to CBP 15 days after publication of the final results of this review.

⁴¹ See See Narrow Woven Ribbons with Woven Selvedge from the People's Republic of China: Final Affirmative Countervailing Duty Determination, 75 FR 41801 (July 19, 2010) (“Final CVD Determination”).

⁴² See Final CVD Determination.

⁴³ See Final CVD Determination.

Cash Deposit Requirements

While the Department did not conduct a companion countervailing duty (“CVD”) administrative review, in the final determination of the CVD investigation on narrow woven ribbons from the PRC, the Department determined that the product under investigation benefitted from an export subsidy.⁴⁴ Accordingly, the Department will instruct CBP to require an antidumping cash deposit equal to the weighted-average amount by which the normal value exceeds the export price, as indicated above, reduced by an amount, as appropriate, determined to constitute an export subsidy in the Final CVD Determination. Therefore, for Hubschercorp, the separate rate respondent, Weifang Dongfang and the PRC-wide entity the Department will instruct CBP to require an antidumping duty cash deposit for each entry equal to the weighted-average margins indicated above adjusted for the export subsidy rate determined in the Final CVD Determination. The adjusted cash deposit rates are 123.44 percent for Weifang Dongfang and 247.26 percent for Hubschercorp and the PRC-wide entity.⁴⁵

⁴⁴ See Narrow Woven Ribbons with Woven Selvedge from the People's Republic of China: Final Affirmative Countervailing Duty Determination, 75 FR 41801 (July 19, 2010) (“Final CVD Determination”).

⁴⁵ See Memorandum from Karine Gziryan to Robert Bolling regarding the adjusted cash deposit rate (dated concurrently with this notice) for further detail on the calculation of these adjustments.

The following cash deposit requirements will be effective upon publication of the final results of this administrative review for all shipments of the subject merchandise from the PRC entered, or withdrawn from warehouse, for consumption on or after the publication date, as provided for by section 751(a)(2)(C) of the Act: (1) For Hubschercorp, a third-country reseller from Canada, the cash deposit rate will be that established in the final results of this review; (2) for Weifang Dongfang, a PRC exporter which has a separate rate, the cash deposit rate will be that established in the final results of this review; (3) for previously investigated PRC exporters not listed above that received a separate rate in a prior segment of this proceeding, the cash deposit rate will continue to be the exporter-specific rate; (4) for all PRC exporters of subject merchandise that have not been found to be entitled to a separate rate, the cash deposit rate will be the PRC-wide rate of 247.26 percent; ⁴⁶ and (5) for all non-PRC exporters of subject merchandise which have not received their own rate, the cash deposit rate will be the rate applicable to the PRC exporter that supplied that non-PRC exporter. These deposit requirements, when imposed, shall remain in effect until further notice.

⁴⁶ See Final LTFV Determination, 75 FR at 41812.

Notification to Interested Parties

This notice serves as a final reminder to importers of their responsibility under 19 CFR 351.402(f)(2) to file a certificate regarding the reimbursement of antidumping duties prior to liquidation of the relevant entries during the review period. Pursuant to 19 CFR 351.402(f)(3), failure to comply with this requirement could result in the Department presuming that the exporter or producer paid or reimbursed the antidumping duties.

This notice also serves as a reminder to parties subject to administrative protective order (“APO”) of their responsibility concerning the disposition of proprietary information disclosed under APO. Timely written notification of the return/destruction of APO materials or conversion to judicial protective order is hereby requested. Failure to comply with the regulations and the terms of an APO is a sanctionable violation.

This notice of the final results of this review is issued and published in accordance with sections 751(a)(1) and 777(i) of the Act.

Dated: February, 5, 2013.
Paul Piquado,
Assistant Secretary for Import Administration.

APPENDIX

Comment in the Issues and Decision Memorandum

Comment 1: Use of the Highest Petition Rate as Adverse Facts Available

[FR Doc. 2013-03236 Filed 2-12-13; 8:45 am]

BILLING CODE 3510-DS-P